DEPARTMENT OF DEFENSE

Office of the Secretary

Defense Science Board; Meeting Date Change

AGENCY: Department of Defense.

ACTION: Notice of advisory committee meeting date change.

SUMMARY: The Defense Science Board (DSB) Task Force on Systems Technology for the Future U.S. Strategic Posture closed meeting scheduled for June 13-14, 2001, published at 65 FR 70556, November 24, 2000, has been changed to June 25-26, 2001. The meeting will be held at Strategic Analysis Inc., 3601 Wilson Boulevard, Suite 600, Arlington, VA.

Dated: June 8, 2001.
L.M. Bynum,
Alternate OSD Federal Register Liaison Officer, Department of Defense.

[FR Doc. 01-15212 Filed 6-15-01; 8:45 am]

BILLING CODE 5001-08-M